DEPARTMENT OF ENERGY

Notice of Availability of National Transmission Needs Study and Request for Comment

AGENCY: Grid Deployment Office, Department of Energy.

ACTION: Notice of availability; request for comments.

SUMMARY: The U.S. Department of Energy (DOE) gives notice of availability of the draft National Transmission Needs Study for public review and comment.

DATES: DOE is currently accepting public comment from March 6, 2023 through April 20, 2023. Comments must be sent to NeedsStudy.Comments@hq.doe.gov by midnight EST, April 20, 2023.

ADDRESSES: Interested parties are to submit comments electronically to NeedsStudy.Comments@hq.doe.gov. DOE's guidance is available at: www.energy.gov/gdo/national-transmission-needs-study.

FOR FURTHER INFORMATION CONTACT: Adria Brooks, U.S. Department of Energy, Grid Deployment Office, via (202) 586-2006; or NeedsStudy.Comments@hq.doe.gov.

SUPPLEMENTARY INFORMATION: DOE's Grid Deployment Office (GDO) is announcing the availability of the draft National Transmission Needs Study (Needs Study) and requests public comment on the draft.

Section 216(a) of the Federal Power Act (FPA), as recently amended by section 40105 of the Infrastructure Investment and Jobs Act (IIJA), requires DOE to conduct a study of electric transmission capacity constraints and congestion every three years. The Needs Study implements that statutory provision and replaces what was formerly known as the National Electric Transmission Congestion Study.

Pursuant to section 216(a)(1), DOE has consulted with states, Tribes, and appropriate regional reliability entities regarding the Needs Study, including by providing a consultation draft for review and comment by these entities, as well as through a series of six audience-specific webinars following release of the consultation draft, and availability of DOE staff for phone calls and meetings. The draft Needs Study made available for public comment by this Notice reflects revisions made in light of the comments and input that DOE received from states, Tribes, and regional reliability entities.

Pursuant to section 216(a)(2) of the FPA, the study would inform any decision to exercise DOE's National Interest Electric Transmission Corridor designation authority. The Needs Study will also inform DOE as it coordinates the use of other authorities and funding related to electric transmission. These include new authorities under the IIJA and existing DOE programs, such as grid-related research and development and financing authorities that support grid infrastructure development.

Members of the public can visit GDO's website to access the public draft of the study as well as guidance for how to send comments or request further information at: https://www.energy.gov/gdo/national-transmission-needs-study. Comments will be made available publicly at the same website.

Signing Authority

This document of the Department of Energy was signed on February 23, 2023, by Maria D. Robinson, Director of the Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. The administrative process in no way alters the legal effect of this document upon publication in the Federal Register.

Signed in Washington, DC, on March 1, 2023.
Treena V. Garrett,
Federal Register Liaison Officer, U.S. Department of Energy.

[FR Doc. 2023-04521 Filed 3-3-23; 8:45 am]

BILLING CODE 6450-01-P